DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground modified | Communities affected
Alexander County, North Carolina and Incorporated Areas
Docket Nos.: FEMA-B-7708 and FEMA-D-7676
Beaverdam Creek | At the confluence with Big Branch into South Yadkin River | +1,026 | Alexander County (Unincorporated Areas).
| Approximately 2.5 miles upstream of Vashti Road | +1,151 |
Beaver Branch | At the confluence with Lambert Creek | +1,087 | Alexander County (Unincorporated Areas).
| Approximately 500 feet upstream of SR 1307 | +1,161 |
Big Branch | At the confluence with Elk Shoals Creek | +894 | Alexander County (Unincorporated Areas).
| Approximately 600 feet upstream of SR 1619 | +1,057
Big Branch into South Yadkin River | At the confluence with South Yadkin River | +1,026 | Alexander County (Unincorporated Areas).
| Approximately 0.5 mile upstream of Vashti Cemetery Road | +1,181 |
Catawba River | Approximately 1.0 mile upstream of the confluence of Elk Shoals Creek | +848 | Alexander County (Unincorporated Areas).
| At the Alexander/Caldwell County boundary | +936 |
Duck Creek | At the confluence of Middle Little River | +1,036 | Alexander County (Unincorporated Areas).
| At the confluence with Holsclaw Creek | +1,157 |
Elk Shoals Creek | Approximately 0.5 mile upstream of the confluence with Catawba River | +848 | Alexander County (Unincorporated Areas).
| Approximately 400 feet upstream of SR 1631 | +991 |
Tributary 1 | At the confluence with Elk Shoals Creek | +883 | Alexander County (Unincorporated Areas).
| Approximately 0.5 mile upstream of the confluence with Elk Shoals Creek | +896 |
Tributary 2 | At the confluence with Elk Shoals Creek | +889 | Alexander County (Unincorporated Areas).
| Approximately 0.5 mile upstream of the confluence with Elk Shoals Creek | +903 |
Glade Creek | At the confluence with Lower Little River | +901 | Alexander County (Unincorporated Areas).
| Approximately 900 feet upstream of Rogers Lake Dam Upper | +1,195 |
Tributary 1 | At the confluence with Glade Creek | +1,015 | Alexander County (Unincorporated Areas), Town of Taylorsville.
| Approximately 0.8 mile upstream of SR 1607 | +1,093 |
Grassy Creek | At the confluence with Lower Little River | +1,093 | Alexander County (Unincorporated Areas).
| Approximately 1,050 feet upstream of the confluence of Grassy Creek Tributary 2 | +1,185 |
Tributary 1 | At the confluence with Grassy Creek | +1,098 | Alexander County (Unincorporated Areas).
| Approximately 0.7 mile upstream of the confluence with Grassy Creek | +1,122 |
Tributary 2 | At the confluence with Grassy Creek | +1,182 | Alexander County (Unincorporated Areas).
| Approximately 0.7 mile upstream of SR 16 | +1,211 |
Greasy Creek | At the confluence with Wallace Creek | +1,016 | Alexander County (Unincorporated Areas).
| Approximately 0.4 mile upstream of Carson Chapel Road (SR 1418) | +1,175 |
Tributary 1 | At the confluence with Greasy Creek | +1,035 | Alexander County
| Approximately 0.4 mile upstream of Hammer Road | +1,199 | (Unincorporated Areas), Town of Taylorsville.
Guys Branch | At the confluence with Elk Shoals Creek | +906 | Alexander County (Unincorporated Areas).
| Approximately 0.5 mile upstream of the confluence with Elk Shoals Creek | +922 |
Holsclaw Creek | At the confluence with Duck Creek | +1,157 | Alexander County (Unincorporated Areas).
| Approximately 0.9 mile upstream of SR 1302 | +1,238 |
Isaac Creek | At the confluence with Upper Little River | +936 | Alexander County (Unincorporated Areas).
| Approximately 0.7 mile upstream of SR 1143 | +957 |
Island Creek | At the confluence with Catawba River | +851 | Alexander County (Unincorporated Areas).
| Approximately 0.4 mile upstream of SR 1621 | +875 |
Jumping Run | At the confluence with Rock Creek | +983 | Alexander County (Unincorporated Areas).
| Approximately 600 feet upstream of SR 127 | +1,099 |
Lambert Creek | At the confluence with Lower Little River | +1,087 | Alexander County (Unincorporated Areas).
| Approximately 700 feet upstream of the confluence of Poplar Creek | +1,180 |
Tributary 1 | At the confluence with Lambert Creek | +1,113 | Alexander County (Unincorporated Areas).
| Approximately 800 feet upstream of SR 1307 | +1,174 |
Lower Little River | At the confluence with Catawba River | +852 | Alexander County (Unincorporated Areas).
| Approximately 0.9 mile upstream of SR 1332 | +1,130 |
Tributary 1 | At the confluence with Lower Little River | +865 | Alexander County (Unincorporated Areas).
| Approximately 1.9 miles upstream of the confluence with Lower Little River | +973 |
Tributary 2 | At the confluence with Lower Little River | +983 | Alexander County (Unincorporated Areas).
| Approximately 1,600 feet upstream of SR 1124 | +1,100 |
Tributary 2A | At the confluence with Lower Little River Tributary 2 | +1,085 | Alexander County (Unincorporated Areas).
| Approximately 1,650 feet upstream of the confluence with Lower Little River Tributary 2 | +1,122 |
Tributary 3 | At the confluence with Lower Little River | +995 | Alexander County (Unincorporated Areas).
| Approximately 1.4 miles upstream of SR 1110 | +1,093 |
Tributary 4 | At the confluence with Lower Little River | +1,022 | Alexander County (Unincorporated Areas), Town of Taylorsville.
| Approximately 1,000 feet upstream of School Drive | +1,163 |
Middle Little River | Approximately 300 feet downstream of SR 1137 | +935 | Alexander County (Unincorporated Areas).
| At the Alexander/Caldwell County boundary | +1,295 |
Tributary 2 | At the confluence with Middle Little River | +1,030 | Alexander County (Unincorporated Areas).
| Approximately 0.7 mile upstream of the confluence with Middle Little River | +1,036 |
Mill Creek | At the confluence with South Yadkin River | +1,020 | Alexander County (Unincorporated Areas).
| Approximately 0.4 mile upstream of confluence with South Yadkin River | +1,025 |
Miller Creek | At the confluence with South Yadkin River | +857 | Alexander County (Unincorporated Areas).
| Approximately 300 feet upstream of Sprinkle Dairy Road | +1,009 |
Mountain Creek | Approximately 0.8 mile upstream of the confluence with Middle Little River | +936 | Alexander County (Unincorporated Areas).
| Approximately 200 feet upstream of SR 1150 | +1,057 |
Muddy Fork Creek | At the confluence with Lower Little River | +1,063 | Alexander County (Unincorporated Areas), Town of Taylorsville.
| Approximately 1.3 miles upstream of SR 1409 | +1,108 |
Tributary 1 | At the confluence with Muddy Fork Creek | +1,076 | Alexander County (Unincorporated Areas), Town of Taylorsville.
| Approximately 1.6 miles upstream of Old Wikesboro Road | +1,181 |
Poplar Creek | At the confluence with Lambert Creek | +1,176 | Alexander County (Unincorporated Areas).
| Approximately 0.5 mile upstream of SR 1305 | +1,199 |
Rock Creek | At the confluence with Middle Little River | +957 | Alexander County (Unincorporated Areas).
| At the confluence of Jumping Run | +983 |
Tributary 1 | At the confluence with Rock Creek | +957 | Alexander County (Unincorporated Areas).
| Approximately 1,000 feet upstream of the confluence with Rock Creek | +958 |
Rocky Creek | Approximately 0.5 mile upstream of Branton Road (SR 1601) | +1,097 | Alexander County (Unincorporated Areas).
| Approximately 150 feet upstream of Alexander/Wilkes County boundary | +1,192 |
Snow Creek | Approximately 150 feet downstream of the Iredell/Alexander County boundary | +1,013 | Alexander County (Unincorporated Areas).
| Approximately 50 feet upstream of the Iredell/Alexander County boundary | +1,013 |
South Yadkin River | Approximately 500 feet downstream of the Iredell/Alexander County boundary | +843 | Alexander County (Unincorporated Areas).
| Approximately 500 feet downstream of Vashti Road (SR 1403) | +1,066 |
Spring Creek | At the confluence with Lower Little River | +1,047 | Alexander County (Unincorporated Areas).
| Approximately 1.7 miles upstream of SR 1121 | +1,121 |
Stirewalt Creek | At the confluence with Lower Little River | +983 | Alexander County (Unincorporated Areas) Town of Taylorsville.
| Approximately 750 feet upstream of East Main Avenue | +1,241 |
Third Creek | Approximately 850 feet downstream of Smith Farm Road (SR 1637) | +914 | Alexander County (Unincorporated Areas).
| Approximately 0.5 mile upstream of Lentz Road | +1,004 |
Upper Little River | At the confluence with Catawba River | +936 | Alexander County (Unincorporated Areas).
| Approximately 1,600 feet upstream of Alexander/Caldwell County boundary | +971 |
Wallace Creek | At the confluence with South Yadkin River | +905 | Alexander County (Unincorporated Areas).
| Approximately 1,200 feet upstream of confluence of Greasy Creek | +1,018 |
White Creek | At the confluence with Holsclaw Creek | +1,157 | Alexander County (Unincorporated Areas).
| Approximately 1.5 miles upstream of SR 1303 | +1,270 |
# Depth in feet above ground.
* National Geodetic Vertical Datum.
+ North American Vertical Datum.
ADDRESSES
Town of Taylorsville
Maps are available for inspection at the Alexander County Planning and Inspection Office, 332 1st Avenue Southwest, Taylorsville, North Carolina.
Alexander County (Unincorporated Areas)
Maps are available for inspection at the Alexander County Planning and Inspection Office, 332 1st Avenue Southwest, Taylorsville, North Carolina.

(Catalog of Federal Domestic Assistance No. 97.022, “Flood Insurance.”)

Dated: July 3, 2007.
David I. Maurstad,
Federal Insurance Administrator of the National Flood Insurance Program, Department of Homeland Security, Federal Emergency Management Agency.

[FR Doc. E7-13603 Filed 7-12-07; 8:45 am]

BILLING CODE 9110-12-P